DEPARTMENT OF AGRICULTURE

Agricultural Marketing Service

[Docket Number FV-04-306]

United States Standards for Grades of Watermelons

AGENCY: Agricultural Marketing Service, USDA.

ACTION: Notice; request for public comment.

SUMMARY: The Agricultural Marketing Service (AMS), of the Department of Agriculture is soliciting comments on its amended proposal to revise the United States Standards for Grades of Watermelons. AMS received a petition from the National Watermelon Association (NWA), amending a portion of their original petition. NWA's amended petition is requesting that seedless watermelons be defined as: “Watermelons which have 10 or less mature seeds, not to include pips/caplets, on the face of the melon which has been cut into four equal sections (one lengthwise cut and one crosswise cut).” NWA's original petition requested that a variance be added to the size requirements. This request remains unchanged.

DATES: Comments must be received by November 7, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Watermelons are available either through the address cited above or by accessing the Fresh Products Branch Web site at: http://www.ams.usda.gov/standards/standfrfv.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is proposing to revise the voluntary United States Standards for Grades of Watermelons using procedures that appear in part 36, title 7 of the Code of Federal Regulations (7 CFR part 36). These standards were last revised in 1978.

Background

AMS received two petitions from the NWA requesting a revision to the United States Standards for Grades of Watermelons. In the first petition, the NWA requested that the USDA revise the standards by defining seedless watermelons as: “Seedless Watermelons” are watermelons which have 16 or less mature seeds, not to include pips/caplets, on the face of the melon which has been cut into four equal sections (one lengthwise cut and one crosswise cut). The petitioner also requested the size requirements be revised by adding an allowance for watermelons to vary 3 pounds above the stated average weight.

Prior to undertaking research and other work associated with a revision of the grade standards, AMS decided to seek public comments on the petition. A notice requesting comments on the petition to revise the United States Standards for Grades of Watermelons was published in the April 22, 2004, Federal Register (69 FR 21812).

In response to our request for comments, AMS received one comment from an industry group. The comment was in favor of the proposed revision of the standards.

On October 29, 2004, AMS published a notice in the Federal Register (69 FR 209) proposing to revise the standards based on the petitioner request to define seedless watermelons and add a variance to the size requirements.

A 60-day comment period was provided for interested parties to comment on the proposed changes to the standards.

In response to our request for comments, AMS received two comments on the proposed revision. One from an industry group representing receivers and one comment from a consumer. Both commenters supported the inclusion of a definition for seedless watermelons with a lower number of allowable seed count. The commenter representing receivers supported the inclusion of a 3 pound variance in the size requirements, while the other commenter supported a 1 pound variance. The comments are available by accessing AMS's Home Page on the Internet at: http://www.ams.usda.gov/fv/fpbdocketlist.htm.

After the comment period ended, AMS received a second petition from the NWA amending the seedless watermelon definition in their original petition. The amended petition is requesting that seedless watermelons be defined as: “Watermelons which have 10 or less mature seeds, not to include pips/caplets, on the face of the melon which has been cut into four equal sections (one lengthwise cut and one crosswise cut).” NWA did not amend their petition in regard to the inclusion of a the 3 pound variance.

Based on the submitted information and comments received, AMS is proposing to revise the standards for watermelons following the standard format for U.S. Grade Standards. Specifically, the proposed revision will define seedless watermelons by including the following definition: “Seedless Watermelons” are watermelons which have 10 or less mature seeds, not to include pips/caplets, on the face of the melon which has been cut into four equal sections (one lengthwise cut and one crosswise cut).

AMS is also proposing to change the size requirements by adding an allowance for watermelons to vary 3 pounds above the stated average weight. As previously stated, one commenter recommended a 1 pound variance rather then 3 pound variance. However, AMS is proposing to change the size requirements by adding an allowance for watermelons to vary 3 pounds above average weight as the standard currently allows watermelons to vary 3 pounds below the stated weight, therefore the inclusion would be consistent within the standards.

This proposal will bring the standards for watermelons in line with current marketing practices, thereby, improving the usefulness of the standards in serving the industry. The official grade of a lot of watermelons covered by these standards will be determined by the procedures set forth in the Regulations Governing Inspection, Certification, and Standards of Fresh Fruits, Vegetables and Other Products (Sec. 51.1 to 51.61).

This notice provides for a 60-day comment period for interested parties to comment on changes to the standards.

Authority: 7 U.S.C. 1621-1627.

Dated: September 1, 2005.
Lloyd C. Day,
Administrator, Agricultural Marketing Service.

[FR Doc. 05-17709 Filed 9-6-05; 8:45 am]

BILLING CODE 3410-02-P